SMALL BUSINESS ADMINISTRATION

[Declaration of Disaster #3623; Amendment #1]

State of North Carolina

In accordance with a notice received from the Department of Homeland Security—Federal Emergency Management Agency—effective September 12, 2004, the above numbered declaration is hereby amended to establish the incident period for this disaster as beginning September 7, 2004, and continuing through September 12, 2004.

All other information remains the same, i.e., the deadline for filing applications for physical damage is November 9, 2004, and for economic injury the deadline is June 10, 2005.

(Catalog of Federal Domestic Assistance Program Nos. 59002 and 59008).

Dated: September 15, 2004.
Cheri L. Cannon,
Acting Associate Administrator for Disaster Assistance.

[FR Doc. 04-21545 Filed 9-24-04; 8:45 am]

BILLING CODE 8025-01-P